DEPARTMENT OF LABOR

Employment and Training Administration

[TA-W-37,987]

Hobman Corporation Jim Thorpe, Pennsylvania; Notice of Revised Determination on Reconsideration

On February 6, 2001, the Department accepted a request from petitioners for reconsideration of the Department of Labor's Negative Determination Regarding Eligibility to Apply for Worker Adjustment Assistance applicable to workers of the subject firm. The notice was published in the Federal Register on February 20, 2001 (66 FR 10918).

The initial investigation resulted in a negative determination because the “contributed importantly” test of the Group Eligibility Requirements of the Trade Act was not met for workers at the subject firm. The workers at Hobman Corporation in Jim Thorpe, Pennsylvania, produced model train transformers and plastics. The denial notice was published in the Federal Register on November 16, 2000 (65 FR 69342).

On reconsideration, the Department obtained new information from the company regarding the production at the subject firm plant. Although the subject firm sales consisted of model train transformers and plastics, workers at the plant produced power packs during the time relevant to the investigation. New findings of the investigation show that from 1998 to 1999, the subject firm increased imports of power packs and plastics. The Hobman Corporation, Jim Thorpe, Pennsylvania plant closed in September 2000, and the production was transferred to another U.S. facility.

Conclusion

After careful consideration of the new facts obtained on reconsideration, it is concluded that increased imports of articles like or directly competitive with the articles produced by the subject firm contributed importantly to the decline in sales or production and to the total or partial separation of workers of Hobman Corporation, Jim Thorpe, Pennsylvania. In accordance with the provisions of the Trade Act of 1974, I make the following revised determination:

All workers at Hobman Corporation, Jim Thorpe, Pennsylvania, who became totally or partially separated from employment on or after August 10, 1999, through two years from the date of certification, are eligible to apply for adjustment assistance under Section 223 of the Trade Act of 1974.

Signed in Washington, DC this 25th day of June 2001.
Edward A. Tomchick,
Director, Division of Trade Adjustment Assistance.

[FR Doc. 01-17362 Filed 7-10-01; 8:45 am]

BILLING CODE 4510-30-M